DEPARTMENT OF THE INTERIOR

Bureau of Land Management

Notice of Proposed Withdrawal

AGENCY: Bureau of Land Management, Interior.

NOTICE: Notice.

SUMMARY: The United States Forest Service proposes to withdraw 14.417 acres of National Forest System land to protect the unique prehistoric, historical and interpretive integrity of the Tijeras Pueblo and future investment of the Sandia Ranger District Administrative Site located on the Cibola National Forest. A notice published in the Federal Register on July 11, 2000 segregated the land for up to 2 years from location and entry under the United States mining laws. The land will remain open to all other uses that by law may be made of National Forest System land.

DATES: Comments should be received on or before October 21, 2000.

ADDRESSES: Comments should be sent to the Forest Supervisor, Cibola National Forest, 2113 Osuna Road NE, Suite A, Albuquerque, New Mexico 87113-1001.

FOR FURTHER INFORMATION CONTACT: Marian Aragon, Forest Service Southwestern Region, (505) 842-3160.

SUPPLEMENTARY INFORMATION: On April 5, 2000, the Forest Service filed an application to withdraw the following described National Forest System land from location and entry under the United States mining laws, subject to valid existing rights:

New Mexico Principal Meridian, Cibola National Forest

T. 10 N., R. 5 E.,

Sec. 23, SW¼NW¼SW¼, N½NW¼SW¼SW¼.

The area described contains approximately 14.417 acres in Bernalillo County.

For a period of 90 days from the date of publication of this notice, all persons who wish to submit comments, suggestions, or objections about the proposed withdrawal may present their views in writing to the Forest Supervisor of the Cibola National Forest.

Dated: June 30, 2000.
Steven W. Anderson,
Assistant Field Manager, Division of Multi-Resources.

[FR Doc. 00-17391 Filed 7-10-00; 8:45 am]

BILLING CODE 3410-11-P